DEPARTMENT OF JUSTICE

Office of Community Oriented Policing Services; Agency Information Collection Activities: Proposed Collection; Comments Requested; Partnering To Respond To Domestic Violence Survey

ACTION: Notice of information collection under review; new collection.

The Department of Justice, Office of Community Oriented Policing, has submitted the following information collection request to the Office of Management and Budget (OMB) for review and clearance in accordance with emergency review procedures of the Paperwork Reduction Act of 1995. OMB approval has been requested by April 1, 2001. The proposed information collection is published to obtain comments from the public and affected agencies. If granted, the emergency approval is only valid for 180 days. Comments should be directed to OMB, Office of Information Regulation Affairs, Attention: Department of Justice Desk Officer (202) 395-3122, Washington, DC 20530.

During the first 60 days of this same review period, a regular review of this information collection is also being undertaken. All comments and suggestions, or questions regarding additional information, to include obtaining a copy of the proposed information collection instrument with instructions, should be directed to Matthew Scheider, Office of Community Oriented Policing, 1110 Vermont Avenue NW., Washington, DC 20531.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including he validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Collection

(1) Type of Information Collection: New Collection.

(2) Title of the Form/Collection: Partnering to Respond to Domestic Violence Survey.

(3) Agency Form Number, if any, the Applicable Component of the Department of Justice Sponsoring the Collection: Form: COPS PPSE/05. Office of Community Oriented Policing Services, U.S. Department of Justice.

(4) Affected Public who will be Asked or Required to Respond, as Well as a Brief Abstract: The Partnering to Respond to Domestic Violence Survey will allow the collection of information regarding how law enforcement departments are applying the community policing philosophy and its practices to the problem of domestic violence. Specifically this collection will yield information regarding police/community partnerships to enhance domestic violence response options.

(5) An estimate of the Total Number of Respondents and the Amount of Time Estimated for an Average Respondent to Respond: Surveys will be administered by mail to approximately 75 law enforcement executives survey completion will take approximately .75 hours per respondent including all preparation time (there is no recordkeeing burden for this collection).

(6) An Estimate of the Total of Public Burden (in hours) Associated with the Collection: Approximately 56.25 annual burden hours associated with this collection.

If additional information is required contact: Ms. Brenda E. Dyer, Deputy Clearance Office, United States Department of Justice, Information Management and Security Staff Justice Management Division, National Place, Suite 1220, 1331 Pennsylvania Avenue NW., Washington, DC 20530.

Dated: March 16, 2001.
Brenda E. Dyer,
Department Deputy Clearance Officer, United States Department of Justice.

[FR Doc. 01-7083 Filed 3-21-01; 8:45 am]

BILLING CODE 4410-AT-M